DEPARTMENT OF HOMELAND SECURITY

Coast Guard

33 CFR Part 117

[Docket Number USCG-2011-0029]

Drawbridge Operation Regulation; Upper Mississippi River, Keokuk, IA

AGENCY: Coast Guard, DHS.

ACTION: Notice of temporary deviation from regulations.

SUMMARY: The Commander, Eighth Coast Guard District, has issued a temporary deviation from the regulation governing the operation of the Keokuk Drawbridge across the Upper Mississippi River, mile 364.0, at Keokuk, Iowa. The deviation is necessary to allow the bridge owner time to perform the needed maintenance and repairs to the bridge that is essential to the continued safe operation of the drawbridge. This deviation allows the bridge to remain in the closed-to-navigation position for thirty days.

DATES: This deviation is effective from 12:01 a.m., January 30, 2011 until 9 a.m., February 28, 2011.

ADDRESSES: Documents indicated in this preamble as being available in the docket are part of docket USCG-2011-0029 and are available online by going to http://www.regulations.gov, inserting USCG-2011-0029 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or email Eric A. Washburn, Bridge Administrator, Western Rivers, Coast Guard; telephone (314) 269-2378, e-mail Eric.Washburn@uscg.mil. If you have questions on viewing the docket, call Renee V. Wright, Program Manager, Docket Operations, telephone (202) 366-9826.

SUPPLEMENTARY INFORMATION: The City of Keokuk, Iowa requested a temporary deviation for the Keokuk Drawbridge, across the Upper Mississippi River, mile 364.0, at Keokuk, Iowa to remain in the closed-to-navigation position in order to facilitate needed bridge maintenance and repairs. The Keokuk Drawbridge currently operates in accordance with 33 CFR 117.5, which states the general requirement that drawbridges shall open promptly and fully for the passage of vessels when a request to open is given in accordance with the subpart. This deviation allows the bridge to remain in the closed-to-navigation position from 12:01 a.m., January 30, 2011 until 9 a.m., February 28, 2011.

There are no alternate routes for vessels transiting this section of the Upper Mississippi River.

Winter conditions on the Upper Mississippi River coupled with the closure of U.S. Army Corps of Engineer's Lock 20, mile 343.2, Lock 21, mile 324.9, and Lock 22, mile 301.2 from January 30, 2011 to February 28, 2011 will preclude any significant navigation demands for the drawspan to open.

The Keokuk Drawbridge, in the closed-to-navigation position, provides a vertical clearance of 25.0 feet above normal pool. Navigation on the waterway consists primarily of commercial tows and recreational watercraft. This temporary deviation has been coordinated with waterway users. No objections were received.

In accordance with 33 CFR 117.35(e), the drawbridge must return to its regular operating schedule immediately at the end of the designated time period. This deviation from the operating regulations is authorized under 33 CFR 117.35.

Dated: January 24, 2011.
Eric A. Washburn,
Bridge Administrator.

[FR Doc. 2011-2688 Filed 2-7-11; 8:45 am]

BILLING CODE 9110-04-P